DEPARTMENT OF THE INTERIOR

National Park Service

Environmental Impact Statement/General Management Plan Point Reyes National Seashore, Marin County, CA; Notice of Intent

SUMMARY: In accord with the National Environmental Policy Act of 1969 (Pub. L. 91-190) and pursuant to regulations of the President's Council on Environmental Quality (40 CFR 1501.7 and 1580.22), the National Park Service will prepare an Environmental Impact Statement and General Management Plan (EIS/GMP) for Point Reyes National Seashore. This notice supersedes previous Notices published on October 14, 1997 (V62; N198; P53336) and May 24, 1999 (V64; N99; P28008), and hereby extends the scoping process and comment period through March 14, 2000.

Background

The purpose of the EIS/GMP will be to state the management philosophy for Point Reyes National Seashore and provide strategies for addressing major issues. Two types of strategies will be identified and analyzed: (1) Those required to manage and preserve cultural and natural resources; and (2) those required to provide for safe, accessible and appropriate use of those resources by visitors. Based on these strategies, the EIS/GMP will identify the programs, actions, support facilities, and appropriate mitigation measures needed for their implementation. The EIS/GMP will guide management of park lands over the subsequent 10-15 years.

It has been determined that lands in the northern district of Golden Gate National Recreation Area (but administered by Point Reyes National Seashore) will be addressed in this EIS/GMP. This includes approximately 15,000 acres of land in the Olema Valley, north of the Bolinas-Fairfax Road and east of Highway 1 as well as Tomales Bay lands. Scoping comments received to date regarding other issues will also continue to be addressed, and need not be resubmitted.

Comments

Persons wishing to express any new concerns about management issues and future land management direction are encouraged to address these to the Superintendent, Point Reyes National Seashore, Point Reyes, California 94956. Comments can also be emailed to “ann_nelson@nps.gov”. All comments must be postmarked or transmitted no later than March 14, 2000. A public workshop to hear comments and suggestions will be conducted at park headquarters on Tuesday, February 29, 2000 from 5:00-7:00 p.m. Questions regarding the plan or scoping sessions should be addressed to the Superintendent either by mail to the above address, or by telephone at (415) 663-8522.

If individuals submitting comments request that their name or/and address be withheld from public disclosure, it will be honored to the extent allowable by law. Such requests must be stated prominently in the beginning of the comments. There also may be circumstances wherein the NPS withhold a respondent's identity as allowable by law. As always: NPS will make available to public inspection all submissions from organizations or businesses and from persons identifying themselves as representatives or officials of organizations and businesses; and, anonymous comments may not be considered.

Decision

The official responsible for the final decision is John J. Reynolds, Regional Director, Pacific West Region; the official responsible for implementation is Don Neubacher, Superintendent, Point Reyes National Seashore. At this time it is anticipated that the draft EIS/GMP will be available for public review in the summer of 2001, and the final EIS/GMP completed in the spring of 2002. Distribution of both documents will be duly noted in the Federal Register and announced via local and regional press. A Record of Decision would be prepared not sooner than 30 days following release of the final EIS/GMP.

Dated: January 21, 2000.
John J. Reynolds,
Regional Director, Pacific West Region.

[FR Doc. 00-2303 Filed 2-2-00; 8:45 am]

BILLING CODE 4310-70-M